DEPARTMENT OF COMMERCE

International Trade Administration

[A-455-805]

Emulsion Styrene-Butadiene Rubber From Poland: Final Results of Antidumping Duty Administrative Review; 2017-2018

AGENCY: Enforcement and Compliance, International Trade Administration, Department of Commerce.

SUMMARY: The Department of Commerce (Commerce) determines that emulsion styrene-butadiene rubber (ESB rubber) from Poland is being sold at less than normal value during the period of review (POR) February 24, 2017 through August 31, 2018.

DATES: Applicable November 21, 2019.

FOR FURTHER INFORMATION CONTACT: Stephen Bailey, AD/CVD Operations, Office IV, Enforcement and Compliance, International Trade Administration, U.S. Department of Commerce, 1401 Constitution Avenue NW, Washington, DC 20230; telephone: (202) 482-0193.

SUPPLEMENTARY INFORMATION:

Background

On July 19, 2019, we published the Preliminary Results of this administrative review.¹ We invited interested parties to comment on the Preliminary Results.² On August 19, 2019, we received a case brief from Lion Elastomers, LLC. (the petitioner).³ No other interested party submitted comments. A hearing was not requested.

¹ See Emulsion Styrene-Butadiene Rubber From Poland: Preliminary Results of Antidumping Duty Administrative Review; 2017-2018, 84 FR 34858 (July 19, 2019) (Preliminary Results), and accompanying Preliminary Decision Memorandum.

² Id.

³ See Petitioner's Letter, “Antidumping Review of Emulsion Styrene-Butadiene Rubber (ESBR) from Poland: Case Brief,” dated August 19, 2019 (Case Brief).

Scope of the Order

The merchandise subject to the order is cold-polymerized emulsion styrene-butadiene rubber (ESB rubber).⁴ The products subject to this order are currently classifiable under subheadings 4002.19.0015 and 4002.19.0019 of the Harmonized Tariff Schedule of the United States (HTSUS). ESB rubber is described by Chemical Abstract Services (CAS) Registry No. 9003-55-8. This CAS number also refers to other types of styrene butadiene rubber. Although the HTSUS subheadings and CAS registry number are provided for convenience and customs purposes, the written description of the scope of this order is dispositive.

⁴ For a complete description of the scope of the order, see Memorandum, “Issues and Decision Memorandum for the Final Results of the 2017-2018 Administrative Review of the Antidumping Duty Order on Emulsion Styrene-Butadiene Rubber from Poland,” dated concurrently with, and hereby adopted by, this notice (IDM).

Analysis of Comments Received

All issues raised in the case brief by the petitioner to this administrative review are addressed in the IDM. A list of the issues raised is attached to this notice as an appendix. The IDM is a public document and is on-file electronically via Enforcement and Compliance's Antidumping and Countervailing Duty Centralized Electronic Service System (ACCESS). ACCESS is available to registered users at https://access.trade.gov and in the Central Records Unit, room B8024 of the main Commerce building. In addition, a complete version of the IDM can be accessed directly at http://enforcement.trade.gov/frn/index.html. The signed IDM and the electronic versions of the IDM are identical in content.

Changes Since the Preliminary Results

Based on our analysis of the record and comments received from the petitioner regarding the Preliminary Results, Commerce has made no changes to the Preliminary Results. As stated in the Preliminary Results, we found that the application of facts otherwise available with adverse inferences, for Synthos Dwory 7 Spolka z Ograniczona Odpowiedzialnoscia Spolka Jawna's (SP.ZO.O.S.J.) (Synthos Dwory's) dumping margin, pursuant to sections 776(a) and (b) of the Tariff Act of 1930, as amended (the Act), was warranted. For further discussion, see the IDM.

Final Results of the Administrative Review

We determined that the following weighted-average dumping margin exists for the period February 24, 2017 through August 31, 2018:

Exporter/producer | Weighted- average dumping margin (percent)
Synthos Dwory 7 Spolka z Ograniczona Odpowiedzialnoscia Spolka Jawna's (SP.ZO.O.S.J.) | 44.54

Assessment Rates

Pursuant to section 751(a)(2)(C) of the Act and 19 CFR 351.212(b), Commerce will determine, and U.S. Customs and Border Protection (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR exported/produced by each respondent for which it did not know its merchandise was destined for the United States, we will instruct CBP to liquidate unreviewed entries at the all-others rate if there is no rate for the company(ies) involved in the transaction. We intend to issue liquidation instructions to CBP 15 days after publication of the final results of this review.

Cash Deposit Requirements

The following cash deposit requirements will be effective upon publication of this notice of final results of administrative review for all shipments of subject merchandise entered, or withdrawn from warehouse, for consumption on or after the date of publication, as provided by section 751(a)(2) of the Act: (1) The cash deposit rate for the respondent noted above will be the rate established in the final results of this administrative review; (2) for merchandise exported by manufacturers or exporters not covered in this administrative review but covered in a prior segment of the proceeding, the cash deposit rate will continue to be the company-specific rate published for the most recently completed segment of this proceeding in which the company was reviewed; (3) if the exporter is not a firm covered in this review, a prior review, or the original investigation, but the producer is, the cash deposit rate will be the rate established for the most recently completed segment of this proceeding for the producer of the subject merchandise; and (4) the cash deposit rate for all other producers or exporters will continue to be 25.43 percent, the all-others rate established in the investigation.⁵ These cash deposit requirements, when imposed, shall remain in effect until further notice.

⁵ See Emulsion Styrene-Butadiene Rubber from Poland: Final Affirmative Determination of Sales at Less Than Fair Value, 82 FR 33061 (July 19, 2017); see also Emulsion Styrene-Butadiene Rubber from Brazil, the Republic of Korea, Mexico, and Poland: Antidumping Duty Orders, 82 FR 42790 (September 12, 2017).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

Notification to Interested Parties

We are issuing and publishing this notice in accordance with sections 751(a)(1) and 777(i) of the Act and 19 CFR 351.221(b)(5).

Dated: November 15, 2019.
Jeffrey I. Kessler,
Assistant Secretary for Enforcement and Compliance.

Appendix

List of Topics Discussed in the Issues and Decision Memorandum

I. Summary

II. Background

III. Scope of the Order

IV. Changes Since the Preliminary Results

V. Discussion of the Issues

Comment 1: Application of Adverse Facts Available (AFA) to Synthos Dwory

VI. Recommendation

[FR Doc. 2019-25261 Filed 11-20-19; 8:45 am]

BILLING CODE 3510-DS-P